DEPARTMENT OF ENERGY

Federal Energy Regulatory Commission

Combined Notice of Filings #1

June 2, 2010.

Take notice that the Commission received the following electric rate filings:

Docket Numbers: ER94-1384-038; ER00-1803-008; ER01-457-009; ER02-1485-011; ER03-1108-011; ER03-1109-011; ER04-733-007; ER08-1432-005; ER99-2329-009.

Applicants: Morgan Stanley Capitol Group Inc., Naniwa Energy LLC, Power Contract Finance, L.L.C., South Eastern Generating Corp., South Eastern Electric Development Corp., Utility Contract Funding II, LLC, MS Solar Solutions Corp., Power Contract Financing II, L.L.C., Power Contract Financing II, Inc.

Description: Notice of Change in Status and Request for Confirmation of Category 1 Status of Morgan Stanley Capital Group Inc., et al.

Filed Date: 06/01/2010.

Accession Number: 20100601-5199.

Comment Date: 5 p.m. e.t. on Tuesday, June 22, 2010.

Docket Numbers: ER01-3001-026.

Applicants: New York Independent System Operator, Inc.

Description: NYISO filing its Semi-Annual Reports on Demand Side Management programs and new generation projects in the New York Control Area.

Filed Date: 06/01/2010.

Accession Number: 20100601-5187.

Comment Date: 5 p.m. e.t. on Tuesday, June 22, 2010.

Docket Numbers: ER04-1181-005; ER04-1182-005; ER04-1184-005; ER04-1186-005.

Applicants: KGen Hot Spring LLC, KGEN Murray I and II LLC, KGEN Sandersville LLC, KGen Hinds LLC.

Description: Notification of Change in Status of KGen Hinds LLC, et al.

Filed Date: 06/01/2010.

Accession Number: 20100601-5205.

Comment Date: 5 p.m. e.t. on Tuesday, June 22, 2010.

Docket Numbers: ER10-64-002; ER04-222-008; ER07-1193-003.

Applicants: CPV Liberty, LLC, CPV Milford, LLC, CPV Keenan II Renewable Energy Co.

Description: Notification of Change in Status of CPV Keenan II Renewable Energy Company, LLC, et al.

Filed Date: 06/01/2010.

Accession Number: 20100601-5161.

Comment Date: 5 p.m. e.t. on Tuesday, June 22, 2010.

Docket Numbers: ER08-1314-001.

Applicants: Wheelabrator Frackville Energy Company I.

Description: Notice of Change in Status of Wheelabrator Frackville Energy Company Inc.

Filed Date: 06/01/2010.

Accession Number: 20100601-5094.

Comment Date: 5 p.m. e.t. on Tuesday, June 22, 2010.

Docket Numbers: ER09-711-002.

Applicants: Freeport-McMoRan Copper & Gold Inc.

Description: Freeport-McMoRan Copper et al. submits First Revised Sheet No.1 to FERC Electric Tariff Effective, June 1, 2010.

Filed Date: 05/27/2010.

Accession Number: 20100528-0201

Comment Date: 5 p.m. e.t. on Thursday, June 17, 2010.

Docket Numbers: ER10-1376-000.

Applicants: Arizona Public Service Co., San Diego Gas & Electric Co., California Independent System Operator Corp.

Description: Arizona Public Service Co. et al. submits a large generator interconnection agreement.

Filed Date: 05/28/2010.

Accession Number: 20100601-0262.

Comment Date: 5 p.m. e.t. on Friday, June 18, 2010.

Take notice that the Commission received the following electric reliability filings:

Docket Numbers: RR10-10-000.

Applicants: North American Electric Reliability Corp.

Description: North American Electric Reliability Corporation's Report of Comparisons of Budgeted to Actual Costs for 2009 for NERC and the Regional Entities.

Filed Date: 06/01/2010.

Accession Number: 20100601-5188.

Comment Date: 5 p.m. e.t. on Tuesday, June 22, 2010.

Any person desiring to intervene or to protest in any of the above proceedings must file in accordance with rules 211 and 214 of the Commission's Rules of Practice and Procedure (18 CFR 385.211 and 385.214) on or before 5 p.m. e.t. on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-13919 Filed 6-9-10; 8:45 am]

BILLING CODE 6717-01-P